ENVIRONMENTAL PROTECTION AGENCY

[FRL-9170-7]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held July 21 and 22, 2010 at the Ritz-Carlton Hotel, 1150 22nd Street, NW., Washington, DC. The CHPAC was created to advise the Environmental Protection Agency on science, regulations, and other issues relating to children's environmental health.

DATES: The CHPAC will meet July 21 and 22, 2010.

ADDRESSES: Ritz-Carlton Hotel, 1150 22nd Street, NW., Washington, DC.

FOR FURTHER INFORMATION CONTACT: Martha Berger, Office of Children's Health Protection, USEPA, MC 1107A, 1200 Pennsylvania Avenue, NW., Washington, DC 20460, (202) 564-2191, berger.martha@epa.gov.

SUPPLEMENTARY INFORMATION: The meetings of the CHPAC are open to the public. The CHPAC will meet on Wednesday, July 21 from 8:30 a.m. to 5 p.m., and Thursday, July 22 from 9 a.m. to 12:30 p.m. Agenda items include discussions on prenatal environmental exposures and indoor environments for children.

ACCESS AND ACCOMMODATIONS: For information on access or services for individuals with disabilities, please contact Martha Berger at 202-564-2191 or berger.martha@epa.gov, preferably at least 10 days prior to the meeting.

Dated: June 28, 2010.
Martha Berger,
Designated Federal Official.

Draft Agenda—U.S. Environmental Protection Agency, Children's Health Protection Advisory Committee: July 21-22, 2010, The Ritz-Carlton Hotel, Salon IIIA, 1150 22nd St, NW., Washington, DC 20037; 202-974-5557.

Plenary Session Desired Outcomes

• Learn about new and ongoing activities at EPA and the Office of Children's Health Protection.

• Review work group efforts on indoor environments and prenatal exposures.

• Discuss potential interagency task force issues: Asthma disparities and chemical management.

Wednesday, July 21

8:00 Coffee.

8:30-8:35 Review Meeting Agenda and Introductions.

8:45-9:15 Highlights of Office of Children's Health Protection Activities, Peter Grevatt, Director OCHP.

9:15-10:15 Indoor Environments Work Group. Tyra Bryant-Stephens and Janice Dhonau, Co-chairs, Matthew Davis, EPA lead.

10:15-10:30 Break.

10:30-11:30 Prenatal Exposures Work Group. Amy Kyle and Nancy Clark, Co-chairs. Michael Firestone, EPA lead.

11:30-12:30 EPA's voluntary lead testing in drinking water initiative. Office of Water.

12:30-2:15 LUNCH (on your own).

2:15-3:15 Asthma Disparities Group Discussion.

3:15-3:30 Break.

3:30-4:30 Asthma Disparities Discussion, continued.

4:30 PUBLIC COMMENT.

5:00 ADJOURN.

Thursday, July 22

8:30 Coffee.

9:00-9:15 Check in and Agenda Review.

9:15-10:15 Chemicals Management Group Discussion.

10:15-10:30 Break.

10:30-11:30 Chemicals Management Discussion, continued.

11:30-12:00 Review and Next Steps.

12:00 ADJOURN.

[FR Doc. 2010-16177 Filed 7-1-10; 8:45 am]

BILLING CODE 6560-50-P